COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be provided by nonprofit agencies employing persons who are blind or have other severe disabilities, and deletes products and services from the Procurement List previously furnished by such agencies.

DATES: Date added to and deleted from the Procurement List: December 30, 2018.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 4/20/2018 (83 FR 77) and 10/19/2018 (83 FR 203), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Custodial Service.

Mandatory for: U.S. Army, ACC Aberdeen, PEO Facilities, Fort Belvoir, VA.

Mandatory Source of Supply: Melwood Horticultural Training Center, Inc., Upper Marlboro, MD.

Contracting Activity: Dept of the Army, W6Qk ACC-APG.

Service Type: Sourcing, Warehousing, Assembly, and Kitting Service.

Mandatory for: USPFO Connecticut, National Guard Bureau, National Guard Armory, 360 Broad Street, Hartford, CT.

Mandatory Source of Supply: Industries for the Blind and Visually Impaired, Inc., West Allis, WI.

Contracting Activity: Dept of the Army, W7MZ USPFO Activity CT ARNG.

Deletions

On 10/19/2018 (83 FR 203) and 10/26/2018 (83 FR 208), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

7930-01-517-4178—Cleaner, Industrial, Multi-Purpose, SKILCRAFT Savvy Green, 32 oz.

7930-01-517-4171—Cleaner, Industrial, Multi-Purpose, SKILCRAFT Savvy Green, 1 GL

7930-01-517-4172—Cleaner, Industrial, Multi-Purpose, SKILCRAFT Savvy Green, 5 GL

7930-01-517-4177—Cleaner, Industrial, Multi-Purpose, SKILCRAFT Savvy Green, 55 GL

7930-01-517-2726—Cleaner, Heavy Duty, Industrial, Multi-Purpose, SKILCRAFT Savvy Green Plus, 32 oz.

7930-01-517-4186—Cleaner, Heavy Duty, Industrial, Multi-Purpose, SKILCRAFT Savvy Green Plus, 5 GL

7930-01-517-4185—Cleaner, Industrial, Multi-Purpose, SKILCRAFT Savvy Green, 1 gal

7930-01-517-4187—Cleaner, Heavy Duty, Industrial, Multi-Purpose, SKILCRAFT Savvy Green Plus, 55 GL

Mandatory Source of Supply: VisionCorps, Lancaster, PA

Contracting Activities: General Services Administration, Fort Worth, TX, Department of Veterans Affairs, Strategic Acquisition Center

NSN(s)—Product Name(s): 5330-00-884-4807—Gasket and Preformed Packing Set

Mandatory Source of Supply: Walterboro Vocational Rehabilitation Center, Walterboro, SC

Contracting Activity: Defense Logistics Agency Troop Support

NSN(s)—Product Name(s): 7240-00-889-3785—Pail, Utility, Plastic, 5-Pint

Mandatory Source of Supply: Community Enterprises of St Clair County, Port Huron, MI

Contracting Activity: GSA/FSS Greater Southwest Acquisition, Fort Worth, TX

Services

Service Type: Janitorial/Custodial Service

Mandatory for: U.S. Army Reserve Center: 2838-98 Woodhaven Road Philadelphia Memorial, Philadelphia, PA

Mandatory Source of Supply: The Chimes, Inc., Baltimore, MD

Contracting Activity: Dept of the Army, W40M NORTHEREGION Contract OFC

Service Type: Switchboard Operation Service

Mandatory for: Shaw Air Force Base, SC

Mandatory Source of Supply: Palmetto Goodwill Services, North Charleston, SC

Contracting Activity: DEPT OF THE AIR FORCE, FA4803 20 CONS LGCA

Service Type: Grounds Maintenance Service

Mandatory for:

U.S. Army Reserve Center: 2838-98 Woodhaven Road Philadelphia Memorial, Philadelphia, PA; U.S. Army Reserve Center: 2501 Ford Road, Bristol Veterans, Bristol, PA

Mandatory Source of Supply: The Chimes, Inc., Baltimore, MD

Contracting Activity: DEPT OF THE ARMY, W6QM MICC CTR-FT DIX (RC)

Service Type: Laundry Service

Mandatory for: Department of Homeland Security: Alien Detention & Removal (ADR)

Immigration & Customs Enforcement (IEC) and Custom, San Diego, CA

Mandatory Source of Supply: Job Options, Inc., San Diego, CA

Contracting Activity: U.S. Customs and Border Protection, Border Enforcement Contracting Division

Service Type: Janitorial/Custodial Service

Mandatory for: Veterans Affairs Medical Center: OI Services Center, Edward Hines Jr., 1st Avenue, Bldg. 20, Hines, IL

Mandatory Source of Supply: Jewish Vocational Service and Employment Center, Chicago, IL

Contracting Activity: Veterans Affairs, Department of, Acquisition Service—FREDERICK

Michael R. Jurkowski,
Business Management Specialist, Business Operations.

[FR Doc. 2018-26066 Filed 11-29-18; 8:45 am]

BILLING CODE 6353-01-P